DEPARTMENT OF HEALTH AND HUMAN SERVICES

Centers for Disease Control and Prevention

Centers for Disease Control and Prevention Sexually Transmitted Infection Treatment Guidelines Update; Webinar

AGENCY: Centers for Disease Control and Prevention (CDC), Department of Health and Human Services (HHS).

ACTION: Notice of public webinar.

SUMMARY: The Centers for Disease Control and Prevention (CDC), located within the Department of Health and Human Services (HHS), announces a webinar entitled, “CDC STI Treatment Guidelines Update”. The purpose of the webinar is for CDC to receive comments from potential users on the proposed updated guidelines. This webinar is an opportunity for all interested parties to ask questions and provide feedback, but is specifically directed toward clinicians, such as medical doctors, nurse practitioners, and physician's assistants. CDC will consider comments made during the webinar prior to finalizing the updated STI Treatment Guidelines for publication.

DATES: The webinar will be held on December 18, 2020 from 2 p.m. to 4 p.m. EST. Registration instructions can be found on the website, https://www.cdc.gov/std/treatment/default.htm.

ADDRESSES: The webinar will be broadcast from the Centers for Disease Control and Prevention, 1600 Clifton Road NE, Atlanta, Georgia 30329.

FOR FURTHER INFORMATION CONTACT: Quinn Haaga, Public Health Advisor, CDC, 1600 Clifton Road NE, MS-US 12-2, Atlanta, GA 30329, stdtxguidelines@cdc.gov.

SUPPLEMENTARY INFORMATION: The CDC's STI Treatment Guidelines Webinar is a public presentation of proposed updates to the CDC's 2015 STD Treatment Guidelines. The webinar will include discussions of proposed changes to CDC's 2015 STD Treatment Guidelines focusing on (1) changes to testing, management, and/or treatment recommendations for Neisseria gonorrhoeae, Chlamydia trachomatis, Trichomonas vaginalis treatment; (2) role of metronidazole in pelvic inflammatory disease treatment; (3) alternative treatment options for bacterial vaginosis; (4) management of Mycoplasma genitalium; and (5) two step testing for serologic diagnosis of genital HSV2. Physicians and other health-care providers can use these guidelines to assist in the prevention and treatment of STIs. Comments and questions on the proposed changes may be made during the webinar only.

Please refer to the posted agenda for updates about the webinar one week prior to the meeting. Information will be provided on the following website when it becomes available. https://www.cdc.gov/std/treatment/default.htm. A recording of the webinar and accompanying transcripts will be available by January 17, 2021 on the website listed above. In addition, CDC's responses to questions from the webinar will also be available February 15, 2021 on this website.

Participants must register by December 17, 2020. This is a webinar-only event and there will be no on-site participation at the CDC broadcast facility.

Sandra Cashman,
Executive Secretary, Centers for Disease Control and Prevention.

[FR Doc. 2020-26974 Filed 12-8-20; 8:45 am]

BILLING CODE 4163-18-P